POSTAL REGULATORY COMMISSION

[Docket Nos. RM2024-9 and PI2025-5; Order No. 8879]

RIN 3211-AA39

Service Performance Measurement Systems for Market Dominant Products

AGENCY: Postal Regulatory Commission.

ACTION: Notice.

SUMMARY: The Commission is acknowledging that the Postal Service's proposed revisions to its Service Performance Measurement (SPM) Plan for Market Dominant products and other related design documents from Docket No. PI2025-5 will be considered as part of Docket No. RM2024-9. This document invites public comments and takes other administrative steps.

DATES: Comments are due: June 11, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: This Order filed, in Docket No. RM2024-9 and Docket No. PI2025-5, states that certain proposed revisions to the Postal Service's Service Performance Measurement (SPM) Plan and related SPM design documents, which were filed by the Postal Service pursuant to 39 CFR 3055.5 in Docket No. PI2025-5, will be considered by the Commission in pending Docket No. RM2024-9.

Comments on the proposed revisions should be filed in Docket No. RM2024-9 by June 11, 2025. The Commission is particularly interested in whether commenters view the proposed revisions as sufficient to enable the SPM system to produce accurate, reliable, and representative results for each 5-Digit to 5-Digit ZIP Code pair for each affected product and (if not) what information and data the Postal Service would need to provide to enable the Commission to verify that the SPM system is capable of producing accurate, reliable, and representative results for each 5-Digit to 5-Digit ZIP Code pair for each affected product.

By the Commission.
Erica A. Barker,
Secretary.

[FR Doc. 2025-10386 Filed 6-6-25; 8:45 am]

BILLING CODE 7710-FW-P